Presidential Determination No. 2005-19 of January 27, 2005

Determination to Authorize a Drawdown for Afghanistan

Memorandum for the Secretary of State [and] the Secretary of Defense

Pursuant to the authority vested in me by the Constitution and laws of the United States, including section 202 and other relevant provisions of the Afghanistan Freedom Support Act (Public Law 107-327, as amended) and section 506 of the Foreign Assistance Act of 1961, as amended, 22 U.S.C. 2318, I hereby direct the drawdown of up to $88.5 million of defense articles, defense services, and military education and training from the Department of Defense for the Government of Afghanistan.

The Secretary of State is authorized and directed to report this determination to the Congress and to arrange for its publication in the Federal Register.

B

THE WHITE HOUSE,

Washington, January 27, 2005.

[FR Doc. 05-2440

Filed 2-4-05; 8:45 am]

Billing code 4710-10-P